DEPARTMENT OF COMMERCE

National Oceanic and Atmospheric Administration

50 CFR Part 635

[Docket No. 120328229-4949-02]

RIN 0648-XD672

Atlantic Highly Migratory Species; Atlantic Bluefin Tuna Fisheries

AGENCY: National Marine Fisheries Service (NMFS), National Oceanic and Atmospheric Administration (NOAA), Commerce.

ACTION: Temporary rule; annual adjustment of Atlantic bluefin tuna Purse Seine and Reserve category quotas.

SUMMARY: NMFS is adjusting the Atlantic bluefin tuna (BFT) Purse Seine and Reserve category quotas for 2015, based on regulations implementing Amendment 7 to the 2006 Consolidated Highly Migratory Species Fishery Management Plan.

DATES: Effective February 10, 2015 through December 31, 2015.

FOR FURTHER INFORMATION CONTACT: Sarah McLaughlin or Brad McHale, 978-281-9260.

SUPPLEMENTARY INFORMATION: Regulations implemented under the authority of the Atlantic Tunas Convention Act (ATCA; 16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 divides the U.S. BFT quota recommended by the International Commission for the Conservation of Atlantic Tunas (ICCAT) among the various domestic fishing categories, per the allocations established in the 2006 Consolidated Highly Migratory Species Fishery Management Plan (2006 Consolidated HMS FMP) (71 FR 58058, October 2, 2006), as amended by the recently published Amendment 7 to the 2006 Consolidated HMS FMP (Amendment 7) (79 FR 71510, December 2, 2014) and in accordance with implementing regulations.

Among other things, Amendment 7 revised the allocations to all quota categories, effective January 1, 2015. As a result, based on the currently codified U.S. quota of 923.7 mt, the baseline Purse Seine and Reserve category quotas are codified as 159.1 mt and 21.4 mt, respectively. See § 635.27(a). Pursuant to § 635.27(a)(4), NMFS has determined the amount of quota available to individual Atlantic Tunas Purse Seine category participants in 2015, based on their BFT catch (landings and dead discards) last year. Specifically, NMFS is making available to each participant 100 percent, 75 percent, 50 percent, or 25 percent of the individual baseline quota allocations, as described in § 635.27(a)(4)(ii) and is reallocating the remainder to the Reserve category for 2015. Based on the procedures described above and by adding the individual available allocations, NMFS has determined the 2015 Purse Seine category quota available to Purse Seine fishery participants is 71.7 mt. Thus, the amount of Purse Seine category quota to be reallocated to the Reserve category is 87.4 mt, for a revised 2015 Reserve category quota of 108.8 mt (21.4 + 87.4 mt). Consistent with the quota regulations, NMFS may allocate any portion of the Reserve category quota for inseason or annual adjustments to any fishing category quota pursuant to regulatory determination criteria described at 50 CFR 635.27(a)(8), in addition to using the Reserve category quota for scientific research collection of bluefin tuna.

NMFS has calculated the amounts of quota available to individual Purse Seine fishery participants based on their individual catch levels in 2014 and the codified process adopted in Amendment 7. Total Purse Seine category BFT catches were 41.7 mt (37.5 mt of landings and 4.2 mt of dead discards) in 2014. Consistent with § 635.27(a)(4)(v)(C), NMFS will notify Atlantic Tunas Purse Seine fishery participants of the amount of quota available for their use this year through the Individual Bluefin Quota electronic system established under § 635.15 and in writing.

NMFS anticipates that it will announce additional bluefin tuna quota adjustments during 2015. For example, when complete 2014 bluefin tuna catch information is available and finalized, NMFS may augment the Reserve further by carrying forward underharvest, if any, from 2014, consistent with ICCAT limits. Also, the 2014 ICCAT recommendation regarding western Atlantic bluefin tuna management increases the baseline U.S. bluefin tuna quota and subquotas; NMFS will undertake domestic implementation of that recommendation in a separate rulemaking, with quotas finalized likely in mid-2015. Subsequent notices will be published in the Federal Register. In addition, fishermen may call the Atlantic Tunas Information Line at (888) 872-8862 or (978) 281-9260, or access hmspermits.noaa.gov, for updates.

This action is being taken under 50 CFR 635.27(a)(4) and (a)(7), and is exempt from review under Executive Order 12866.

Authority: 16 U.S.C. 971 et seq. and 1801 et seq.

Dated: February 5, 2015.
Emily H. Menashes,
Acting Director, Office of Sustainable Fisheries, National Marine Fisheries Service.

[FR Doc. 2015-02809 Filed 2-10-15; 8:45 am]

BILLING CODE 3510-22-P